DEPARTMENT OF TRANSPORTATION

Federal Aviation Administration

14 CFR Part 71

[Docket No. FAA-2021-0972; Airspace Docket No. 21-AGL-27]

RIN 2120-AA66

Amendment of VOR Federal Airways V-26, V-193, and V-285, and Revocation of White Cloud, MI, Domestic Low Altitude Reporting Point in the Vicinity of White Cloud, MI

AGENCY: Federal Aviation Administration (FAA), DOT.

ACTION: Final rule.

SUMMARY: This action amends VHF Omnidirectional Range (VOR) Federal airways V-26, V-193, and V-285, and revokes the White Cloud, MI, domestic low altitude reporting point. The FAA is taking this action due to the planned decommissioning of the VOR portion of the White Cloud, MI, VOR/Distance Measuring Equipment (VOR/DME) navigational aid (NAVAID). The White Cloud VOR is being decommissioned in support of the FAA's VOR Minimum Operational Network (MON) program.

DATES: Effective date 0901 UTC, September 8, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a notice of proposed rulemaking (NPRM) for Docket No. FAA-2021-0972 in the Federal Register (86 FR 62761; November 12, 2021), amending VOR Federal airways V-26, V-193, and V-285, and revoking the White Cloud, MI, domestic low altitude reporting point in the vicinity of White Cloud, MI. The proposed actions were due to the planned decommissioning of the VOR portion of the White Cloud, MI, VOR/DME NAVAID. Interested parties were invited to participate in this rulemaking effort by submitting written comments on the proposal. No comments were received.

VOR Federal airways are published in paragraph 6010(a) and Domestic Low Altitude Reporting Points are published in paragraph 7001 of FAA Order JO 7400.11F, dated August 10, 2021, and effective September 15, 2021, which is incorporated by reference in 14 CFR 71.1. The ATS route and Domestic Low Altitude Reporting Point actions listed in this document will be published subsequently in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

Differences From the NPRM

Prior to the NPRM, the FAA published a rule for Docket No. FAA-2021-0086 in the Federal Register (86 FR 52961; September 24, 2021), amending V-285 by removing the airway segment between the White Cloud, MI, VOR/DME and Traverse City, MI, VOR/DME. That airway amendment was effective December 2, 2021, and was included in the NPRM.

The amendment to V-285 listed in The Proposal section of the NPRM proposed to remove the airway segment between the Victory, MI, VOR/DME and Manistee, MI, VOR/DME. However, the amendment made by Docket No. FAA-2021-0086 removed the airway segment between the White Cloud, MI, VOR/DME and the Manistee, MI, VOR/DME. The proposed V-285 amendment should have reflected the FAA proposed to remove the airway segment between the Victory, MI, VOR/DME and White Cloud, MI, VOR/DME. That correction is included in this rule.

The Rule

This action amends 14 CFR part 71 by modifying VOR Federal airways V-26, V-193, and V-285, and revoking the White Cloud, MI, domestic low altitude reporting point due to the planned decommissioning of the White Cloud, MI, VOR. The VOR Federal airway and domestic low altitude reporting point actions are described below.

V-26: V-26 extends between the Blue Mesa, CO, VOR/DME and the Pierre, SD, VORTAC; and between the Redwood Falls, MN, VOR/DME and the White Cloud, MI, VOR/DME. The airway segment between the Green Bay, WI, VORTAC and White Cloud, MI, VOR/DME is removed. The unaffected portions of the existing airway remain as charted.

V-193: V-193 extends between the intersection of the Pullman, MI, VOR/DME 243° and Gipper, MI, VORTAC 310° radials (MUSKY fix) and the Sault Ste Marie, MI, VOR/DME. The airway segment between the intersection of the Pullman, MI, VOR/DME 243° and Gipper, MI, VORTAC 310° radials (MUSKY fix) and Traverse City, MI, VOR/DME is removed. The unaffected portions of the existing airway remain as charted.

V-285: V-285 currently extends between the Brickyard, IN, VORTAC and the White Cloud, MI, VOR/DME. The airway segment between the Victory, MI, VOR/DME and White Cloud, MI, VOR/DME is removed. The unaffected portions of the existing airway remain as charted.

White Cloud, MI: The White Cloud, MI, domestic low altitude reporting point is removed.

The NAVAID radials listed in the VOR Federal airway V-285 description below are unchanged and stated in True degrees.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of modifying VOR Federal airways V-26, V-193, and V-285, and revoking the White Cloud, MI, domestic low altitude reporting point, due to the planned decommissioning of the VOR portion of the White Cloud, MI, VOR/DME NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6010(a) Domestic VOR Federal Airways.

* * * * *

V-26 [Amended]

From Blue Mesa, CO; Montrose, CO; 13 miles 112 MSL, 131 MSL, Grand Junction, CO; Meeker, CO; Cherokee, WY; Muddy Mountain, WY; 14 miles, 37 miles 75 MSL, 84 miles 90 MSL, Rapid City, SD; Philip, SD; to Pierre, SD. From Redwood Falls, MN; Farmington, MN; Eau Claire, WI; Wausau, WI; to Green Bay, WI.

* * * * *

V-193 [Amended]

From Traverse City, MI; Pellston, MI; to Sault Ste Marie, MI.

* * * * *

V-285 [Amended]

From Brickyard, IN; Kokomo, IN; Goshen, IN; INT Goshen 038° and Kalamazoo, MI, 191° radials; Kalamazoo; INT Kalamazoo 014° and Victory, MI, 167° radials; to Victory.

* * * * *

Paragraph 7001 Domestic Low Altitude Reporting Points.

* * * * *

White Cloud, MI [Removed]

* * * * *

Issued in Washington, DC, on June 23, 2021.
Scott M. Rosenbloom,
Manager, Airspace Rules and Regulations.

[FR Doc. 2022-13842 Filed 6-29-22; 8:45 am]

BILLING CODE 4910-13-P